DEPARTMENT OF COMMERCE

International Trade Administration

[A-570-122]

Certain Corrosion Inhibitors From the People's Republic of China: Notice of Final Results of Antidumping Duty Changed Circumstances Review

AGENCY: Enforcement and Compliance, International Trade Administration, Department of Commerce.

SUMMARY: On November 23, 2022, the U.S. Department of Commerce (Commerce) published the notice of initiation and preliminary results of a changed circumstances review of the antidumping duty order on certain corrosion inhibitors from the People's Republic of China (China). For these final results, Commerce continues to find that Kanghua Chemical Co., Ltd. (Chuzhou Kanghua) is the successor-in-interest to the Nantong Kanghua Chemical Co., Ltd (Nantong Kanghua).

DATES: Applicable January 10, 2023.

FOR FURTHER INFORMATION CONTACT: Hermes Pinilla, AD/CVD Operations, Office I, Enforcement and Compliance, International Trade Administration, U.S. Department of Commerce, 1401 Constitution Avenue NW, Washington, DC 20230; telephone: (202) 482-3477.

SUPPLEMENTARY INFORMATION:

Background

On August 30, 2022, Chuzhou Kanghua requested that Commerce conduct an expedited changed circumstances review of the antidumping duty order on certain corrosion inhibitors from China,¹ pursuant to section 751(b)(1) of the Tariff Act of 1930, as amended (the Act), 19 CFR 351.216, and 19 CFR 351.221(c)(3), to confirm that Chuzhou Kanghua is the successor-in-interest to Nantong Kanghua for purposes of determining antidumping duty cash deposits and liabilities.² In its submission, Chuzhou Kanghua stated that its request was based solely on a change in the Chinese name of the company from “Nantong Kanghua Chemical Co., Ltd” to “Kanghua Chemical Co., Ltd.” ³

¹ See Certain Corrosion Inhibitors from the People's Republic of China, and Antidumping Duty Orders, 86 FR 14869 (March 19, 2021) (Order).

² See Chuzhou Kanghua's Letter, “Certain Corrosion Inhibitors from the People's Republic of China, A-570-122; Changed Circumstances Review (Kanghua),” dated August 30, 2022 (CCR Request). We note that the actual request contained a typographical error referencing a different case and case number. We clarified with counsel that the correct case name is “Certain Corrosion Inhibitors from the People's Republic of China, A-570-122.” See Memorandum, “Antidumping Administrative Review of Certain Corrosion Inhibitors from the People's Republic of China: Communication with counsel concerning its Request for a Changed Circumstance Review,” dated September 29, 2022.

³ See CCR Request.

On November 23, 2022, Commerce initiated this proceeding and published the Preliminary Results, preliminarily finding that Kanghua Chemical is the successor-in-interest to Nantong Kanghua.⁴ In the Preliminary Results, we provided interested parties with an opportunity to provide comments.⁵ We received no comments.

⁴ See Certain Corrosion Inhibitors from the People's Republic of China: Notice of Initiation and Preliminary Results of Antidumping Duty Changed Circumstances Review, 87 FR 71577 (November 23, 2022) (Preliminary Results), and accompanying Preliminary Decision Memorandum (PDM).

⁵ See Preliminary Results, 87 FR 71578.

Scope of the Order

The merchandise covered by the Order is corrosion inhibitors from China. For a full description of the merchandise covered by the scope of Order, see the Preliminary Results PDM.⁶

⁶ See Preliminary Results PDM at 2-3.

Final Results of Changed Circumstances Review

For the reasons stated in the Preliminary Results, Commerce continues to find that Kanghua Chemical is the successor-in-interest to Nantong Kanghua. As a result of this determination and consistent with established practice, we find that Kanghua Chemical should receive the cash deposit rate previously assigned to the Nantong Kanghua. Consequently, Commerce will instruct U.S. Customs and Border Protection (CBP) to suspend liquidation of all shipments of subject merchandise produced and exported by Kanghua Chemical and entered, or withdrawn from warehouse, for consumption on or after the publication date of this notice in the Federal Register at 87.11 percent, which is the current antidumping duty cash deposit rate for Nantong Kanghua.⁷ For shipments of subject merchandise produced by Kanghua Chemical and exported by Jiangyin Delian Chemical Co., Ltd (Delian), Commerce will instruct CBP to suspend liquidation of shipments of subject merchandise that entered, or withdrawn from warehouse, for consumption on or after the publication date of this notice in the Federal Register at 72.50 percent, which is the current antidumping duty cash deposit rate for Delian.⁸ These cash deposits requirement shall remain in effect until further notice.

⁷ See Certain Corrosion Inhibitors from the People's Republic of China: Antidumping Duty and Countervailing Duty Orders, 86 FR 14869 (March 19, 2021).

⁸ Id.

Administrative Protective Order

This notice serves as a final reminder to parties subject to an administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

We are issuing this determination and publishing these final results and notice in accordance with sections 751(b)(1) and 777(i)(1) of the Act and 19 CFR 351.216(e).

Dated: January 4, 2023.
Lisa W. Wang,
Assistant Secretary for Enforcement and Compliance.

[FR Doc. 2023-00308 Filed 1-9-23; 8:45 am]

BILLING CODE 3510-DS-P